DEPARTMENT OF THE TREASURY

Office of Foreign Assets Control

Additional Designations, Foreign Narcotics Kingpin Designation Act

AGENCY: Office of Foreign Assets Control, Treasury.

ACTION: Notice.

SUMMARY: The Treasury Department's Office of Foreign Assets Control (“OFAC”) is publishing the names of 31 individuals and 47 entities whose property and interests in property have been blocked pursuant to the Foreign Narcotics Kingpin Designation Act (“Kingpin Act”) (21 U.S.C. 1901-1908, 8 U.S.C. 1182).

DATES: The designation by the Director of OFAC of the 31 individuals and 47 entities identified in this notice pursuant to section 805(b) of the Kingpin Act is effective on March 2, 2010.

FOR FURTHER INFORMATION CONTACT: Assistant Director, Compliance Outreach & Implementation, Office of Foreign Assets Control, Department of the Treasury, Washington, DC 20220, tel.: 202/622-2490.

SUPPLEMENTARY INFORMATION:

Electronic and Facsimile Availability

This document and additional information concerning OFAC are available on OFAC's Web site (http://www.treas.gov/ofac) or via facsimile through a 24-hour fax-on demand service, tel.: (202) 622-0077.

Background

The Kingpin Act became law on December 3, 1999. The Kingpin Act establishes a program targeting the activities of significant foreign narcotics traffickers and their organizations on a worldwide basis. It provides a statutory framework for the President to impose sanctions against significant foreign narcotics traffickers and their organizations on a worldwide basis, with the objective of denying their businesses and agents access to the U.S. financial system and the benefits of trade and transactions involving U.S. companies and individuals.

The Kingpin Act blocks all property and interests in property, subject to U.S. jurisdiction, owned or controlled by significant foreign narcotics traffickers as identified by the President. In addition, the Secretary of the Treasury consults with the Attorney General, the Director of the Central Intelligence Agency, the Director of the Federal Bureau of Investigation, the Administrator of the Drug Enforcement Administration, the Secretary of Defense, the Secretary of State, and the Secretary of Homeland Security when designating and blocking the property and interests in property, subject to U.S. jurisdiction, of persons who are found to be: (1) Materially assisting in, or providing financial or technological support for or to, or providing goods or services in support of, the international narcotics trafficking activities of a person designated pursuant to the Kingpin Act; (2) owned, controlled, or directed by, or acting for or on behalf of, a person designated pursuant to the Kingpin Act; or (3) playing a significant role in international narcotics trafficking.

On March 2, 2010, the Director of OFAC designated 31 individuals and 47 entities whose property and interests in property are blocked pursuant to section 805(b) of the Foreign Narcotics Kingpin Designation Act.

The list of additional designees is as follows:

1. AGROGANADERA LA FORTALEZA, Finca La Fortaleza, Monterrey, Meta, Colombia; Transversal 25 No. 41A-05, Villavicencio, Colombia; Matricula Mercantil No 158119 (Colombia) [SDNTK].

2. AGROVET EL REMANSO, Carrera 35A No. 17B-05 Sur, Bogota, Colombia; Carrera 86 Sur No. 24A-19 Bdg. 79 L-3, Bogota, Colombia; Matricula Mercantil No 1095044 (Colombia) [SDNTK].

3. AGUILAR AGUILAR Y CIA. LTDA., Carrera 70H No. 127A-26, Bogota, Colombia; NIT # 900039614-6 (Colombia) [SDNTK].

4. AGUILAR ALVAREZ Y CIA. LTDA., Carrera 35 No. 34B-37 of. 20T, Villavicencio, Colombia; NIT # 830122743-9 (Colombia) [SDNTK].

5. AGUILAR DUARTE, Jose Lenoir, c/o AGUILAR AGUILAR Y CIA. LTDA., Bogota, Colombia; c/o AGUILAR ALVAREZ Y CIA. LTDA., Villavicencio, Colombia; c/o CARILLANCA COLOMBIA Y CIA S EN CS, Bogota, Colombia; c/o CARILLANCA S.A., San Jose, Costa Rica; c/o INVERSIONES ADAG LTDA., Bogota, Colombia; c/o INVERSIONES LOS TUNJOS LTDA., Bogota, Colombia; c/o RECIFIBRAS SECUNDARIAS LTDA., Bogota, Colombia; Cedula No. 79265614 (Colombia); Residency Number 117000439417 (Costa Rica) (individual) [SDNTK].

6. ARANGO MADRIGAL, Hernan Dario, c/o CULTIVAR S.A., Fuente de Oro, Meta, Colombia; c/o INVARA S.C.S., Bogota, Colombia; c/o PANOS Y SEDAS LTDA., Bogota, Colombia; Carrera 31 No. 74A-16, Bogota, Colombia; DOB 20 Mar 1952; POB Yarumal, Antioquia, Colombia; Cedula No. 19186993 (Colombia) (individual) [SDNTK].

7. ARISTIZABAL GIRALDO, Tulio Adan, c/o DISTRIBUIDORA BABY PANALES, Cali, Colombia; Calle 14 No. 9-53, Cali, Colombia; DOB 06 Mar 1966; alt. DOB 03 Jun 1966; Cedula No. 79395721 (Colombia) (individual) [SDNTK].

8. AYALA BARRERA, Rubi Yiceth, c/o HERJEZ LTDA., Bogota, Colombia; c/o MATAMBRE DE LO MEJOR, Bogota, Colombia; DOB 13 Feb 1982; Cedula No. 52784570 (Colombia) (individual) [SDNTK].

9. BARRERA BARRERA, Daniel (a.k.a. “EL LOCO BARRERA”), Colombia; DOB 06 Nov 1968; alt. DOB 15 Sep 1967; Cedula No. 18221599 (Colombia) (individual) [SDNTK].

10. BERNAL BERNAL, Liliana, c/o COLPRETINAS LTDA., Bogota, Colombia; c/o CRIADERO EL TAMBO LTDA., Bogota, Colombia; c/o CULTIVAR S.A., Fuente de Oro, Meta, Colombia; c/o DISCO S.A., Cota, Cundinamarca, Colombia; c/o JESBEL Y CIA. S. EN C., Cota, Cundinamarca, Colombia; DOB 23 Feb 1973; Cedula No. 52056898 (Colombia) (individual) [SDNTK].

11. BERNAL BERNAL, Luis Fernando, c/o COLPRETINAS LTDA., Bogota, Colombia; c/o CULTIVAR S.A., Fuente de Oro, Meta, Colombia; c/o DISCO S.A., Cota, Cundinamarca, Colombia; c/o JESBEL Y CIA. S. EN C., Cota, Cundinamarca, Colombia; c/o TEXTILES MODA NOVA LTDA., Bogota, Colombia; DOB 21 Jan 1971; Cedula No. 79187117 (Colombia) (individual) [SDNTK].

12. BERNAL DE BERNAL, Beatriz Eugenia (a.k.a. BERNAL BOTERO, Beatriz Eugenia), c/o CULTIVAR S.A., Fuente de Oro, Meta, Colombia; c/o DISCO S.A., Cota, Cundinamarca, Colombia; c/o JESBEL Y CIA. S. EN C., Cota, Cundinamarca, Colombia; c/o TEXTILES MODA NOVA LTDA., Bogota, Colombia; DOB 24 Sep 1948; POB La Ceja, Antioquia, Colombia; Cedula No. 41420126 (Colombia) (individual) [SDNTK].

13. BERNAL LONDONO, Jesus Antonio, c/o CRIADERO EL TAMBO LTDA., Bogota, Colombia; c/o CULTIVAR S.A., Fuente de Oro, Meta, Colombia; c/o DISCO S.A., Cota, Cundinamarca, Colombia; c/o JESBEL Y CIA. S. EN C., Cota, Cundinamarca, Colombia; Calle 56 No. 38-23 Apto. 501, Bogota, Colombia; DOB 10 Apr 1943; POB La Ceja, Antioquia, Colombia; Cedula No. 2911166 (Colombia) (individual) [SDNTK].

14. BINGO INTERNACIONAL E.U., Avenida 19 No. 9-40, Bogota, Colombia; NIT # 900103490-3 (Colombia) [SDNTK].

15. BLUE-STAR SECCION HOSTELERIA S.L., Calle Villaverde, 2, Parla, Madrid 28981, Spain; C.I.F. B84214477 (Spain) [SDNTK].

16. BUSTOS SUAREZ, Danilo, c/o COMERCIALIZADORA E INVERSIONES BUSTOS ARIZA Y CIA. S.C.S., Bogota, Colombia; c/o MODERNA EXPRESS TRANSPORTE DE CARGA LTDA., Bogota, Colombia; Avenida 26 Sur No. 72-95 Apto. 401 y 402, Bogota, Colombia; Calle 126 No. 11-63, Bogota, Colombia; Carrera 22 No. 122-31 Apto. 304, Bogota, Colombia; DOB 11 Sep 1963; Cedula No. 79283879 (Colombia) (individual) [SDNTK].

17. CARDENAS DUARTE Y CIA. LTDA., Calle 114A No. 51-36, Bogota, Colombia; NIT # 900110094-9 (Colombia) [SDNTK].

18. CARDENAS DUARTE, Norma Constanza, c/o CARDENAS DUARTE Y CIA. LTDA., Bogota, Colombia; c/o LOGISTICA Y TRANSPORTE NORVAL LTDA., Bogota, Colombia; Calle 135 No. 17-25 apto. 503, Bogota, Colombia; DOB 03 Apr 1973; POB Bogota, Colombia; Cedula No. 52106018 (Colombia) (individual) [SDNTK].

19. CIA. COMERCIALIZADORA DE MOTOCICLETAS Y REPUESTOS S.A. (a.k.a. WISMOTOS S.A.), Calle 14 No. 13-29, Granada, Meta, Colombia; Calle 35 No. 27-63, Villavicencio, Colombia; Carrera 6 No. 7-17, San Martin, Meta, Colombia; NIT # 900069501-0 (Colombia) [SDNTK].

20. COLPRETINAS LTDA. (a.k.a. CP TEXTILES), Carrera 13 No. 17-55, Bogota, Colombia; NIT # 830034149-6 (Colombia) [SDNTK].

21. COMERCIALIZADORA DE CARNES CONTINENTAL MGCI LTDA. (a.k.a. CARNES EL PROVEEDOR C F P; a.k.a. CARNES LA MUNDIAL M.A), Aut. Sur No. 66-78 of. 74, Bogota, Colombia; NIT # 830108927-9 (Colombia) [SDNTK].

22. COMERCIALIZADORA E INVERSIONES BUSTOS ARIZA Y CIA. S.C.S. (a.k.a. TRANSCIBA), Avenida Ciudad de Cali No. 10A-42, Bogota, Colombia; Calle 20 No. 82-52 of. 454, Bogota, Colombia; Transversal 49B No. 3A-25 of. 101-303, Bogota, Colombia; NIT # 830084978-9 (Colombia) [SDNTK].

23. CRIADERO EL TAMBO LTDA., Carrera 13 No. 17-55, Bogota, Colombia; NIT # 900016185-9 (Colombia) [SDNTK].

24. CULTIVAR S.A., Carrera 14 No. 9-04, Fuente de Oro, Meta, Colombia; NIT # 822007334-9 (Colombia) [SDNTK].

25. DEWBELLE CENTRO DE ESTETICA Y BELLEZA LTDA., Calle 8B No. 78-22, Bogota, Colombia; NIT # 900049690-9 (Colombia) [SDNTK].

26. DISCO S.A., Km. 3.5 Autop. Medellin Via Siberia Costado Sur Terminal Terrestre de Carga Bloque 4 Bod. 32, Cota, Cundinamarca, Colombia; NIT # 860517890-9 (Colombia) [SDNTK].

27. DISTRIBUIDORA BABY PANALES, Calle 14 No. 9-45, Cali, Colombia; Calle 14 No. 9-53, Cali, Colombia; Matricula Mercantil No. 569739-2 (Colombia) [SDNTK].

28. DOLL EXPORT LTDA., Carrera 69C No. 9D-85 Int. 3 apto. 308, Bogota, Colombia; Sartrouville 78500, France; NIT # 800212502-8 (Colombia) [SDNTK].

29. ECHEVERRY CADAVID, Nebio De Jesus (a.k.a. ECHEVERRI, Nevio; a.k.a. ECHEVERRY, Nevio), c/o HACIENDA VENDAVAL, Paratebueno, Cundinamarca, Colombia; c/o PROVEEDORES Y DISTRIBUIDORES NACIONALES S.A., Bogota, Colombia; Carrera 10 No. 46-43, Pereira, Colombia; Carrera 38 No. 26B-11, Villavicencio, Colombia; La Pastora, Vereda La Union, Dosquebradas, Risaralda, Colombia; DOB 28 Nov 1944; Cedula No. 10056431 (Colombia) (individual) [SDNTK].

30. EJERCITO REVOLUCIONARIO POPULAR ANTITERRORISTA DE COLOMBIA (a.k.a. ERPAC; a.k.a. PEOPLE'S REVOLUTIONARY ANTI-TERRORIST ARMY OF COLOMBIA), Colombia [SDNTK].

31. EMPRESA DE EMPLEOS TEMPORALES LA UNICA LTDA., Calle 38 No. 30A-31 of. 902, Villavicencio, Colombia; NIT # 822000687-1 (Colombia) [SDNTK].

32. ESTACION DE SERVICIO LA FLORESTA DE FUENTE DE ORO, Casco Urbano Salida Puerto Lleras, Fuente de Oro, Meta, Colombia; Matricula Mercantil No. 00017159 (Colombia) [SDNTK].

33. ESTACION DE SERVICIO LA TURQUESA, Calle 6 No. 1-02, Puerto Lleras, Meta, Colombia; Matricula Mercantil No. 00091367 (Colombia) [SDNTK].

34. ESTACION DE SERVICIO SERVIAGRICOLA DEL ARIARI, Cruce Puerto Rico, Puerto Lleras, Meta, Colombia; Matricula Mercantil No. 00029517 (Colombia) [SDNTK].

35. GALVIS MARIN, Samuel Gustavo (a.k.a. GALVEZ, Samuel), c/o PALMERAS SANTA BARBARA, Calamar, Guaviare, Colombia; Calle 39 No. 19A-33, Villavicencio, Colombia; Cedula No. 6001464 (Colombia) (individual) [SDNTK].

36. GESTION ALFA LTDA., Calle 62 No. 9A-82 of. 810, Bogota, Colombia; NIT # 830095836-9 (Colombia) [SDNTK].

37. GUERRERO CASTILLO, Pedro Oliveiro (a.k.a. “CUCHILLO”), Colombia; DOB 28 Feb 1970; POB San Martin, Meta, Colombia; Cedula No. 17355451 (Colombia) (individual) [SDNTK].

38. GUTIERREZ GARAVITO, Armando, c/o BLUE-STAR SECCION HOSTELERIA S.L., Parla, Madrid, Spain; c/o EMPRESA DE EMPLEOS TEMPORALES LA UNICA LTDA., Villavicencio, Colombia; c/o INVERSIONES GANADERAS Y PALMERAS S.A., Bogota, Colombia; c/o INVERSIONES GANAGRO LTDA., Villavicencio, Colombia; c/o INVERSIONES TALADRO LTDA., Villavicencio, Colombia; Calle 8B No. 77-30, Bogota, Colombia; Calle 8B No. 78-30 Castilla Real, Bogota, Colombia; Calle 23F No. 73F-03, Bogota, Colombia; Calle Hacienda de Pavones, No. 48, Madrid, Spain; Hacienda Oeste, Restrepo, Meta, Colombia; DOB 02 Dec 1959; POB Acacias, Meta, Colombia; Cedula No. 17410782 (Colombia); N.I.E. X-1552120-B (Spain) (individual) [SDNTK].

39. GUTIERREZ HERNANDEZ, Javier Mauricio, c/o BINGO INTERNACIONAL E.U., Bogota, Colombia; c/o INVERSIONES GANADERAS Y PALMERAS S.A., Bogota, Colombia; Calle 18 No. 6-31 of. 704, Bogota, Colombia; Carrera 7 Bis No. 123-51 apto. 201, Barrio Santa Barbara, Bogota, Colombia; DOB 11 Dec 1968; POB Villavicencio, Colombia; Cedula No. 17339511 (Colombia) (individual) [SDNTK].

40. GUTIERREZ MOLINA, Diego Armando, c/o INVERSIONES GANADERAS Y PALMERAS S.A., Bogota, Colombia; c/o INVERSIONES GANAGRO LTDA., Villavicencio, Colombia; c/o INVERSIONES TALADRO LTDA., Villavicencio, Colombia; DOB 20 Jun 1987; POB Bogota, Colombia; Cedula No. 1032390133 (Colombia) (individual) [SDNTK].

41. GUTIERREZ, Dolis, c/o DOLL EXPORT LTDA., Bogota, Colombia; DOB 03 Oct 1962; POB San Martin, Meta, Colombia; Cedula No. 51658906 (Colombia) (individual) [SDNTK].

42. HACIENDA VENDAVAL, Vereda Paloma Km. 2, Paratebueno, Cundinamarca, Colombia; Matricula Mercantil No. 1473503 (Colombia) [SDNTK].

43. HERJEZ LTDA. (a.k.a. CARNES CUERNAVACA), Avenida Ciudad de Cali No. 15A-91 Local-06, Bogota, Colombia; NIT # 900083653-1 (Colombia) [SDNTK].

44. INVARA S.C.S., Carrera 9A No. 12-61 p. 4, Bogota, Colombia; NIT # 800162357-0 (Colombia) [SDNTK].

45. INVERSIONES ADAG LTDA., Carrera 16 No. 96-64 of. 316, Bogota, Colombia; NIT # 830007842-8 (Colombia) [SDNTK].

46. INVERSIONES AGROINDUSTRIALES DEL ORIENTE LTDA. (a.k.a. INAGRO LTDA.), Carrera 14 No. 13-56, Granada, Meta, Colombia; NIT # 822000899-6 (Colombia) [SDNTK].

47. INVERSIONES GANADERAS Y PALMERAS S.A. (a.k.a. GANAPALMAS S.A.), Calle 18 No. 6-31 of. 704, Bogota, Colombia; NIT # 900016274-6 (Colombia) [SDNTK].

48. INVERSIONES GANAGRO LTDA., Edif. Parque Santander of. 906, Villavicencio, Colombia; NIT # 900078332-0 (Colombia) [SDNTK].

49. INVERSIONES LAS ACACIAS Y CIA. LTDA., Carrera 17 No. 14-41, Acacias, Meta, Colombia; NIT # 822001081-3 (Colombia) [SDNTK].

50. INVERSIONES LOS TUNJOS LTDA., Calle 62 No. 9A-82 of. 616, Bogota, Colombia; NIT # 830147501-1 (Colombia) [SDNTK].

51. INVERSIONES TALADRO LTDA. (a.k.a. KUARZO DISCOTECA), Calle 1 K. 48 Anillo Vial, Villavicencio, Colombia; NIT # 900063810-4 (Colombia) [SDNTK].

52. JAIME JEREZ V. Y CIA. S.C.S. JERGAL S.C.S., Calle 25C No. 85C-52, Bogota, Colombia; NIT # 860525034-4 (Colombia) [SDNTK].

53. JEREZ GALEANO, Jaime, c/o INVERSIONES LOS TUNJOS LTDA., Bogota, Colombia; c/o JAIME JEREZ V. Y CIA. S.C.S. JERGAL S.C.S., Bogota, Colombia; Carrera 7 No. 145-38 Manzana 2 Int. 2 apto. 101, Bogota, Colombia; Calle 125 No. 21A-71 of. 302, Bogota, Colombia; Calle 125 No. 21A-71 of. 402, Bogota, Colombia; DOB 08 Apr 1969; POB Bogota, Colombia; Cedula No. 79484852 (Colombia) (individual) [SDNTK].

54. JEREZ PINEDA, Oscar Alberto, c/o HERJEZ LTDA., Bogota, Colombia; DOB 07 Aug 1968; POB Bogota, Colombia; Cedula No. 79133740 (Colombia) (individual) [SDNTK].

55. JESBEL Y CIA. S. EN C., Km. 3.5 Autop. Medellin Via Siberia Costado Sur Terminal Terrestre de Carga Bloque 4 Bod. 32, Cota, Cundinamarca, Colombia; NIT # 860522569-9 (Colombia) [SDNTK].

56. LA TASAJERA DE FUENTE DE ORO, Km. 1 Fuente de Oro Via Granada, Fuente de Oro, Meta, Colombia; Matricula Mercantil No 00118073 (Colombia) [SDNTK].

57. LOGISTICA Y TRANSPORTE NORVAL LTDA., Avenida Boyaca No. 68-24, Bogota, Colombia; NIT # 900224846-0 (Colombia) [SDNTK].

58. LONDONO ZAPATA, Jesus Antonio, Calle 47 Bis No. 28-55, Villavicencio, Colombia; c/o INVERSIONES AGROINDUSTRIALES DEL ORIENTE LTDA., Granada, Meta, Colombia; Calle 14 No. 13-86/90, Fuentedeoro, Meta, Colombia; Carrera 14 No. 14-04/06, Fuentedeoro, Meta, Colombia; Finca Juanchito, Vereda Iraca, San Martin, Meta, Colombia; Finca La Rivera I, Vereda La Luna, Fuentedeoro, Meta, Colombia; Finca La Rivera II, Vereda Pto. Poveda, Fuentedeoro, Meta, Colombia; Finca Verdum, Vereda Iraca, San Martin, Meta, Colombia; Finca Verdum Ligia, Vereda Iraca, Fuentedeoro, Meta, Colombia; Finca Villa Maria, Vereda Pto. Poveda, Fuentedeoro, Meta, Colombia; DOB 24 Aug 1954; POB Tulua, Valle, Colombia; Cedula No. 6633775 (Colombia) (individual) [SDNTK].

59. LOPEZ CADAVID, Oscar De Jesus, c/o PROVEEDORES Y DISTRIBUIDORES NACIONALES S.A., Bogota, Colombia; Hacienda San Lorenzo, Paratebueno, Cundinamarca, Colombia; DOB 21 Jun 1956; Cedula No. 15502188 (Colombia) (individual) [SDNTK].

60. LOZADA PABON, Julio Cesar, c/o AGROGANADERA LA FORTALEZA, Monterrey, Meta, Colombia; Carrera 51 No. 122-09 Apto. 102, Bogota, Colombia; Cedula No. 17323068 (Colombia) (individual) [SDNTK].

61. MARTINEZ ARANGO, Oscar Richard, c/o COMERCIALIZADORA DE CARNES CONTINENTAL MGCI LTDA., Bogota, Colombia; DOB 31 Jul 1972; Cedula No. 79634329 (Colombia) (individual) [SDNTK].

62. MATAMBRE DE LO MEJOR, Carrera 75 No. 24C-25, Bogota, Colombia; Matricula Mercantil No 1664511 (Colombia) [SDNTK].

63. MINIMERCADO EL MANANTIAL DEL NEUTA, Calle 4A No. 2-01 Mz. 39 Ca. 32, Soacha, Cundinamarca, Colombia; Matricula Mercantil No 1776209 (Colombia) [SDNTK].

64. MODERNA EXPRESS TRANSPORTE DE CARGA LTDA., Transversal 96A No. 14-70, Bogota, Colombia; NIT # 830039006-4 (Colombia) [SDNTK].

65. MOLINA CUBILLOS, Alba Judith, c/o DEWBELLE CENTRO DE ESTETICA Y BELLEZA LTDA., Bogota, Colombia; c/o INVERSIONES GANADERAS Y PALMERAS S.A., Bogota, Colombia; c/o VITAL SILUET CENTRO DE ESTETICA, Bogota, Colombia; Calle 42 No. 72-A35 Casa 16, Bogota, Colombia; Calle 43A No. 69D-51 Trr. 5 Apto. 817, Bogota, Colombia; DOB 01 Mar 1963; POB Guamal, Meta, Colombia; Cedula No. 40315181 (Colombia) (individual) [SDNTK].

66. OICATA MORALES, Gelber Mauricio, c/o AGROVET EL REMANSO, Bogota, Colombia; DOB 29 Sep 1963; Cedula No. 74322694 (Colombia) (individual) [SDNTK].

67. OSPINA MURILLO, Wilmer, c/o CIA. COMERCIALIZADORA DE MOTOCICLETAS Y REPUESTOS S.A., Granada, Meta, Colombia; c/o ESTACION DE SERVICIO LA FLORESTA DE FUENTE DE ORO, Fuente de Oro, Meta, Colombia; c/o ESTACION DE SERVICIO LA TURQUESA, Puerto Lleras, Meta, Colombia; c/o ESTACION DE SERVICIO SERVIAGRICOLA DEL ARIARI, Puerto Lleras, Meta, Colombia; c/o LA TASAJERA DE FUENTE DE ORO, Fuente de Oro, Meta, Colombia; c/o WISMOTOS FUENTE DE ORO, Fuente de Oro, Meta, Colombia; DOB 26 May 1970; Cedula No. 17344677 (Colombia) (individual) [SDNTK].

68. PALMERAS SANTA BARBARA, Entrada Casco Urbano Calamar, Calamar, Guaviare, Colombia; Matricula Mercantil No 109214 (Colombia) [SDNTK].

69. PANOS Y SEDAS LTDA. (a.k.a. TELARAMA A Y S), Carrera 9 No. 12-61, Bogota, Colombia; NIT # 830070893-0 (Colombia) [SDNTK].

70. PROVEEDORES Y DISTRIBUIDORES NACIONALES S.A. (a.k.a. NACIONAL DISTRIBUCIONES; a.k.a. PRODISNAL S.A.; a.k.a. PROVEEDOR HOGAR; a.k.a. SUPERMERCADOS EL PROVEEDOR), Calle 15 No. 18-50, Yopal, Casanare, Colombia; Calle del Comercio, Puerto Inirida, Guainia, Colombia; Carrera 5 No. 16-45, Puerto Inirida, Guainia, Colombia; Carrera 14 No. 29-97, Granada, Meta, Colombia; Carrera 22 No. 6-21, San Jose del Guaviare, Guaviare, Colombia; Carrera 22 No. 7-55, San Jose del Guaviare, Guaviare, Colombia; Carrera 29 No. 20-38, Yopal, Casanare, Colombia; Carrera 38 No. 26C-95, Villavicencio, Colombia; Corabastos Bod. 3 Loc. 12, Bogota, Colombia; NIT # 830511666-9 (Colombia) [SDNTK].

71. RECIFIBRAS SECUNDARIAS LTDA., Calle 14 No. 32-24, Bogota, Colombia; NIT # 830092250-1 (Colombia) [SDNTK].

72. SALAMANCA BUITRAGO, Mesias, c/o GESTION ALFA LTDA., Bogota, Colombia; Calle 62 No. 9A-82 of. 616, Bogota, Colombia; DOB 05 Jan 1951; alt. DOB 01 May 1951; Cedula No. 19133648 (Colombia) (individual) [SDNTK].

73. SANCHEZ SILVA, Elkin Alexis, Calle 119A No. 48-83 apto. 405, Bogota, Colombia; DOB 04 Jan 1965; Cedula No. 79368275 (Colombia) (individual) [SDNTK].

74. TEXTILES MODA NOVA LTDA., Carrera 13 No. 17-55 piso 2, Bogota, Colombia; NIT # 830072066-5 (Colombia) [SDNTK].

75. ULLOA ESPITIA, Hubel, c/o MINIMERCADO EL MANANTIAL DEL NEUTA, Soacha, Cundinamarca, Colombia; Carrera 3B E No. 91-28 Sur, Bogota, Colombia; DOB 22 Jun 1965; Cedula No. 5712762 (Colombia) (individual) [SDNTK].

76. VELEZ MURILLO, Uberney, c/o CULTIVAR S.A., Fuente de Oro, Meta, Colombia; c/o INVERSIONES AGROINDUSTRIALES DEL ORIENTE LTDA., Granada, Meta, Colombia; Carrera 39B No. 24-21 Casa 9, Villavicencio, Colombia; DOB 05 Sep 1962; POB Fuentedeoro, Meta, Colombia; Cedula No. 86030095 (Colombia) (individual) [SDNTK].

77. VITAL SILUET CENTRO DE ESTETICA, Calle 8B No. 78-22, Bogota, Colombia; Matricula Mercantil No 1419756 (Colombia) [SDNTK].

78. WISMOTOS FUENTE DE ORO, Carrera 14 No. 9-19, Fuente de Oro, Meta, Colombia; Matricula Mercantil No 00118075 (Colombia) [SDNTK].

Dated: March 2, 2010.
Adam J. Szubin,
Director, Office of Foreign Assets Control.

[FR Doc. 2010-4782 Filed 3-5-10; 8:45 am]

BILLING CODE 4810-AL-P